NATIONAL CAPITAL PLANNING COMMISSION

Environmental and Historic Preservation Policies and Procedures

AGENCY: National Capital Planning Commission.

ACTION: Proposed Commission procedure revision.

SUMMARY: The National Capital Planning Commission has prepared a draft of proposed revisions to its current Environmental Policies and Procedures developed in compliance with the National Environmental Policy Act of 1969, as amended, 42 U.S.C. 4321 et seq., and the Council on Environmental Quality's Regulations for Implementing the Procedural Provisions of the National Environmental Policy Act (43 FR 55978-56007). The Commission requests public review and comment on the draft proposed procedures during a 60-day comment period that begins on the date of this notice.

DATES: Submit comments on or before November 24, 2000.

ADDRESSES: All comments should be addressed to: National Capital Planning Commission, Attention: Eugene Keller, 801 Pennsylvania Avenue, NW., Suite 301, Washington, DC 20576. Comments may also be sent by e-mail to eugene@ncpc.gov. Faxes may be sent to (202) 482-7272. All comments will be fully considered.

FOR FURTHER INFORMATION CONTACT: Eugene Keller, Environmental Officer, National Capital Planning Commission, (202) 482-7251 or Mr. Ash Jain, General Counsel, National Capital Planning Commission, (202) 482-7270. A copy of the revised procedures may be requested and is also available at the Commission's Internet website: www.ncpc.gov/what.html.

SUPPLEMENTARY INFORMATION: The Commission has drafted revisions to the agency's environmental and historic policies and procedures. This revised document addresses necessary changes to the Commission's existing requirements, which describe how the National Capital Planning Commission, beginning at the earliest possible point, considers the environmental and historic aspects of proposed actions that it reviews and acts upon, including commemorative works. The revised procedures, when adopted in their final form, would supersede current provisions regarding environmental documentation required by the Commission. The revisions also address National Historic Preservation Act (NHPA), section 106 compliance, pertaining to Commission review and action. Currently, the Commission anticipates final adoption of the proposed revised Environmental and Historic Preservation Policies and Procedures in December 2000.

Dated: September 15, 2000.
Ash Jain,
General Counsel and Congressional Liaison, National Capital Planning Commission.

[FR Doc. 00-24550 Filed 9-22-00; 8:45 am]

BILLING CODE 7520-01-M